DEPARTMENT OF COMMERCE

Foreign-Trade Zones Board

[B-03-2020]

Foreign-Trade Zone (FTZ) 90—Syracuse, New York; Notification of Proposed Production Activity; PPC Broadband, Inc. (Hardline Coaxial Cables); Dewitt, New York

PPC Broadband, Inc. (PPC Broadband) submitted a notification of proposed production activity to the FTZ Board for its facility in Dewitt, New York. The notification conforming to the requirements of the regulations of the FTZ Board (15 CFR 400.22) was received on January 22, 2020.

PPC Broadband already has authority to produce coaxial cable connectors within FTZ 90. The current request would add a finished product and foreign status components to the scope of authority. Pursuant to 15 CFR 400.14(b), additional FTZ authority would be limited to the specific foreign-status components and the specific finished product described in the submitted notification (as described below) and subsequently authorized by the FTZ Board.

Production under FTZ procedures could exempt PPC Broadband from customs duty payments on the foreign-status components used in export production. On its domestic sales, for the foreign-status components noted below and in the existing scope of authority, PPC Broadband would be able to choose the duty rates during customs entry procedures that apply to hardline coaxial cables, without connectors (duty rate—5.3%). PPC Broadband would be able to avoid duty on foreign-status components which become scrap/waste. Customs duties also could possibly be deferred or reduced on foreign-status production equipment.

The components sourced from abroad include: Polyethylene jacket foam; copper clad aluminum wire (10% copper by area); aluminum tape; and, copper clad steel center conductors (duty rate ranges from duty-free to 6.5%). The request indicates that the components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is March 10, 2020.

A copy of the notification will be available for public inspection in the “Reading Room” section of the Board's website, which is accessible via www.trade.gov/ftz.

For further information, contact Christopher Wedderburn at Chris.Wedderburn@trade.gov or (202) 482-1963.

Dated: January 23, 2020.
Andrew McGilvray,
Executive Secretary.

[FR Doc. 2020-01609 Filed 1-29-20; 8:45 am]

BILLING CODE 3510-DS-P